DEPARTMENT OF AGRICULTURE

Animal and Plant Health Inspection Service

[Docket No. APHIS-2008-0116]

Notice of Request for Extension of Approval of an Information Collection; Standards for Privately Owned Quarantine Facilities for Ruminants; Correction

AGENCY: Animal and Plant Health Inspection Service, USDA.

ACTION: Notice; correction.

SUMMARY: We are correcting errors in our notice to request an extension of approval of an information collection associated with regulations for privately owned quarantine facilities for ruminants. The notice was published in the Federal Register on November 5, 2008 (73 FR 65821-65822, Docket No. APHIS-2008-0116).

FOR FURTHER INFORMATION CONTACT: Dr. James Davis, Senior Staff Veterinarian, National Center for Import and Export, VS, APHIS, 4700 River Road, Unit 39, Riverdale, MD 20737; (301) 734-8364.

SUPPLEMENTARY INFORMATION: On November 5, 2008, we published in the Federal Register (73 FR 65821-65822, Docket No. APHIS-2008-0116) a notice announcing the Animal and Plant Health Inspection Service's intention to request an extension of approval of an information collection associated with regulations for privately owned quarantine facilities for ruminants. In the notice on page 65821, under ADDRESSES, the information for submission of comments through the Regulations.gov Web site and postal mail/commercial delivery was incorrect. This document corrects those errors.

Correction

In FR Doc. E8-26384, published on November 5, 2008, on page 65821, first column, under ADDRESSES, make the following corrections:

1. Correct the Federal eRulemaking Portal section to read as follows:

• Federal eRulemaking Portal: Go to http://www.regulations.gov/fdmspublic/component/main?main=DocketDetail&d=APHIS-2008-0116 to submit or view comments and to view supporting and related materials available electronically.

2. Under Postal Mail/Commercial Delivery, correct “four copies of your comment (an original and three copies)” to read “two copies of your comment”.

Done in Washington, DC, this 28th day of November 2008.
Kevin Shea,
Acting Administrator, Animal and Plant Health Inspection Service.

[FR Doc. E8-28761 Filed 12-3-08; 8:45 am]

BILLING CODE 3410-34-P